ENVIRONMENTAL PROTECTION AGENCY

[ER-FRL-6643-6]

Environmental Impact Statements; Notice of Availability

Responsible Agency: Office of Federal Activities, General Information (202) 564-7167 or http://www.epa.gov/compliance/nepa/.

Weekly receipt of Environmental Impact Statements

Filed September 1, 2003 Through September 5, 2003

Pursuant to 40 CFR 1506.9.

EIS No. 030406, Final EIS, NPS, VA, Green Spring Colonial National Historical Park Management Plan, Implementation, James City County, VA, Wait Period Ends: October 14, 2003, Contact: Kathryn Schlegel (215) 597-6486. This document is available on the Internet at: http://www.nps.gov/colo.

EIS No. 030407, Draft EIS, EPA, CT, NY, Central and Western Long Island Sound Dredged Material Disposal Sites, Designation, CT and NY, Comment Period Ends: October 27, 2003, Contact: Ann Rodney (617) 918-1538. This document is available on the Internet at: http://www.epa.gov/region1.

EIS No. 030408, Final EIS, BLM, NV, Black Rock Desert-High Rock Canyon Emigrant Trails National Conservation Area (NCA) and Associated Wilderness, and Other Contiguous Lands, Resource Management Plan, Implementation, Great Basin, NV, Wait Period Ends: October 14, 2003, Contact: David C. Cooper (775) 623-1500.

EIS No. 030409, Draft EIS, AFS, ID, Mission Brush Project, Proposes Vegetation, Wildlife Habitat, Recreation and Aquatic Improvement Treatments, Idaho Panhandle National Forests, Bonners Ferry Ranger District, Bounty County, ID, Comment Period Ends: October 27, 2003, Contact: Doug Nishek (208) 267-5561. This document is available on the Internet at: http://www.fs.fed.us/outernet/ipnf/eco/manage/nepa/index.htm1.

EIS No. 030410, Final EIS, AFS, ID, Frank Church River of No Return Wilderness (FC-RONRW), Implementation for the Future Management of Land and Water Resource, Bitterroot, Boise, Nez Perce, Payette and Salmon-Challis National Forests, ID, Wait Period Ends: October 27, 2003, Contact: Ken Worting (208) 756-5131.

EIS No. 030411, Final EIS, FHW, WY, Wyoming Forest Highway 4 U.S. 212 (KP 39.5 to KP 69.4) the Beartooth Highway, A Portion Proposed for Reconstruction begins 7.1 miles east of the Junction of WY-296 (Chief Joseph Highway) and Proceeds East for 18.6 miles to the Wyoming/Montana State Line, Park County, WY, Wait Period Ends: October 14, 2003, Contact: Jennifer Corwin (303) 716-2997.

EIS No. 030412, Draft EIS, AFS, OR, Juncrock Timber Sale Project, Treat Forest Vegetation, MT. Hood National Forest, Barlow Ranger District, Wasco County, OR, Comment Period Ends: October 27, 2003, Contact: Becky Nelson (541) 467-2291.

EIS No. 030413, Draft EIS, AFS, CA, Emigrant Wilderness Dams Project, Reconstruct, Repair, Maintain and Operate 12 Dams; Snow, Bigelow, Huckleberry, Emigrant Meadow, Middle Emigrant, Emigrant, Leighton, Long, Lower Buck, Y-Meadow and Bear, Stanislaus National Forest, Summer Ranger District, Tuolumne County, CA, Comment Period Ends: October 27, 2003, Contact: John J. Maschi (209) 532-3671. This document is available on the Internet at: http://www.fs.fed.us/r5/stanislaus.

EIS No. 030414, Draft EIS, HUD, WA, Tacoma Housing Authority (THA) HOPE VI Salishan Redevelopment Project, Revitalize the Community Neighborhood and Housing in the Area, Funding, NHPA Section 106, NPDES Permit, City of Tacoma, WA, Comment Period Ends: October 27, 2003, Contact: Karie Hayashi (253) 591-5387.

EIS No. 030415, Final EIS, AFS, AK, Madan Timber Sale, Implementation, Tongass National Forest, Wrangell Ranger District, COE Section 404 Permit and NPDES Permit, AK, Wait Period Ends: October 14, 2003, Contact: Richard Cozby (907) 874-7572.

Amended Notices

EIS No. 030337, Third Draft EIS, AFS, OR, Mt. Ashland Ski Area Expansion, Site Specific Project, Maintenance and Enhancements of Environmental Resources, Implementation, Special Use Permit, Ashland Ranger District, Rogue River National Forest and Scott River Ranger District, Klamath National Forest, Jackson County, OR, Comment Period Ends: October 23, 2003, Contact: John Schuyler (541) 482-3333.

Revision of FR Notice Published on 7/25/2003: CEQ Comment Period Ending 9/23/2003 has been Extended to 10/23/2003.

Dated: September 9, 2003.
Ken Mittelholtz,
Environmental Protection Specialist, Office of Federal Activities.

[FR Doc. 03-23307 Filed 9-11-03; 8:45 am]

BILLING CODE 6560-50-P